DEPARTMENT OF ENERGY

Federal Energy Regulatory Commission

[Docket No. RP97-288-021]

Transwestern Pipeline Company; Notice of Negotiated Rate Tariff Filing

June 20, 2002.

Take notice that on June 14, 2002, Transwestern Pipeline Company (TW) tendered for filing as part of its FERC Gas Tariff, Second Revised Volume No. 1, the following tariff sheets to become effective June 15, 2002:

16th Revised Sheet No. 5B.05

7th Revised Sheet No. 5B.06

2nd Revised Sheet No. 5B.10

Original Sheet No. 5B.11

Original Sheet No. 5B.12

TW states that the above sheets are being filed to implement specific negotiated rate agreements with Frito Lay (2), Western Gas Resources, BP Energy Company, United States Gypsum Company, PPL Energy Plus, LLC (2), and OneOK Energy Marketing and Trading Company in accordance with the Commission's Policy Statement on Alternatives to Traditional Cost-of-Service Ratemaking for Natural Gas Pipelines.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-16121 Filed 6-26-02; 8:45 am]

BILLING CODE 6717-01-P